NUCLEAR REGULATORY COMMISSION

[Docket Nos. 50-18, 50-70, 50-73, 50-183, 70-754, 70-1113, 70-1220, 72-1, 11001075, 11001076, 11005081, 11005086, 11005186, 11005555, and 11006278; NRC-2023-0119]

Indirect Transfers of Licenses; Order; In the Matter of General Electric Company, GE-Hitachi Nuclear Energy Americas, LLC, and Global Nuclear Fuel-Americas, LLC

AGENCY: Nuclear Regulatory Commission.

ACTION: Notice.

SUMMARY: The U.S. Nuclear Regulatory Commission (NRC) is issuing an order approving the application filed by General Electric Company (GE), GE-Hitachi Nuclear Energy Americas, LLC (GEHA), and Global Nuclear Fuel-Americas, LLC (GNF-A) on May 30, 2023, as supplemented by letters dated June 20, June 26, and September 27, 2023. Specifically, the order approves the indirect transfers of Possession Only License No. DPR-1 for the Vallecitos Boiling Water Reactor at the Vallecitos Nuclear Center (VNC) in Sunol, California; Possession Only License No. TR-1 for the GE Test Reactor at the VNC; Facility Operating License No. R-33 for the Nuclear Test Reactor at the VNC; Possession Only License No. DR-10 for the Empire State Atomic Development Associates Vallecitos Experimental Superheat Reactor at the VNC; Special Nuclear Material License Nos. SNM-960 and SNM-1270 for the VNC; Special Nuclear Material License No. SNM-1097 for the Wilmington Fuel Manufacturing Facility in Wilmington, North Carolina; Special Nuclear Material License No. SNM-2500 for the Morris Operation Independent Spent Fuel Storage Installation in Grundy County, Illinois, near Morris, Illinois; and Export License Nos. XR135, XSNM1662, XSNM3066, XCOM1124, XSNM03135, XSNM3398, and XSNM3785 from GE, the parent company of the license holders, GEHA and GNF-A, to GE Vernova LLC, later to be converted to a corporation (GE Vernova Corp.).

DATES: The order was issued on November 30, 2023, and is effective immediately.

ADDRESSES: Please refer to Docket ID NRC-2023-0119 when contacting the NRC about the availability of information regarding this document. You may obtain publicly available information related to this document using any of the following methods:

• Federal Rulemaking Website: Go to https://www.regulations.gov and search for Docket ID NRC-2023-0119. Address questions about Docket IDs in Regulations.gov to Stacy Schumann; telephone: 301-415-0624; email: Stacy.Schumann@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The order and the NRC staff safety evaluation supporting the order are available in ADAMS under Package Accession No. ML23283A327.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Osiris Siurano-Pérez, Office of Nuclear Material Safety and Safeguards, U.S. Nuclear Regulatory Commission, Washington, DC 20555-0001; telephone: 301-415-7827; email: Osiris.Siurano-Perez@nrc.gov.

SUPPLEMENTARY INFORMATION: The text of the order is attached.

Dated: December 5, 2023.
For the Nuclear Regulatory Commission.
Osiris Siurano-Perez,
Project Manager, Fuel Facility Licensing Branch, Division of Fuel Management, Office of Nuclear Material Safety and Safeguards.

Attachment—Order Approving the Indirect Transfers of Control of License

UNITED STATES OF AMERICA NUCLEAR REGULATORY COMMISSION

In the Matter of General Electric Company, Ge-Hitachi Nuclear Energy Americas, LLC, and Global Nuclear Fuel-Americas, LLC: EA-23-132; Docket Nos.: 50-18, 50-70, 50-73, 50-183, 70-754, 70-1113, 70-1220, 72-1, 11001075, 11001076, 11005081, 11005086,11005186, 11005555, 11006278; License Nos.: DPR-1, TR-1, R-33, DR-10 SNM-960, SNM-1097, SNM-1270, SNM-2500, XR135, XSNM1662, XSNM3066, XCOM1124, XSNM03135, XSNM3398, XSNM3785; Certificate of Compliance Nos.: 9228 (Transportation Package USA/9228/B(U)F-96), 9294 (Transportation Package USA/9294/AF-96), and 9309 (Transportation Package USA/9309/B(U)F-96).

Order Approving the Indirect Transfers of Control of Licenses

I.

General Electric Company (GE) and Hitachi Ltd. (Hitachi), a Japanese corporation, hold the ownership interests in GE-Hitachi Nuclear Energy Americas, LLC (GEHA) and Global Nuclear Fuel-Americas, LLC (GNF-A), with GE holding 60 percent ownership interest and Hitachi holding the remaining 40 percent ownership interest through wholly owned companies. Currently, GEHA is the holder of part 50 of title 10 of the Code of Federal Regulations (10 CFR), “Domestic Licensing of Production and Utilization Facilities,” reactor license numbers R-33, DPR-1, DR-10, and TR-1 for reactors at the Vallecitos Nuclear Center (VNC) in Sunol, California. GEHA also holds 10 CFR part 70, “Domestic Licensing of Special Nuclear Material,” special nuclear material (SNM) license numbers SNM-960 and SNM-1270 for the VNC. In addition, GEHA is the holder of 10 CFR part 72, “Licensing Requirements for the Independent Storage of Spent Nuclear Fuel, High-Level Radioactive Waste, and Reactor-Related Greater Than Class C Waste,” license number SNM-2500 for the Morris Operation Independent Spent Fuel Storage Installation (ISFSI) in Morris, Illinois, and also holds export license numbers XR- 135 and XCOM1124. GEHA also holds Certificate of Compliance (CoC) number 9228 for Transportation Package USA/9228/B(U)F-96. GNF-A is the holder of 10 CFR part 70 license number SNM-1097 for the Wilmington Fuel Manufacturing Facility in Wilmington, North Carolina, and also holds export license numbers XSNM1662, XSNM03135, XSNM3398, XSNM3785, and XSNM3066, as well as CoC numbers 9294 for Transportation Package USA/9294/AF-96 and 9309 for Transportation Package USA/9309/B(U)F-96.

II.

By letter dated May 30, 2023 (Agencywide Documents Access and Management System Accession Number ML23152A116), as supplemented by letters dated June 20, 2023 (ML23171A976), June 26, 2023 (ML23177A089), and September 27, 2023 (ML23271A086) (collectively, the application), GE, GEHA, and GNF-A (together, the applicants) submitted an application requesting that the U.S. Nuclear Regulatory Commission (NRC, the Commission) consent to the indirect transfers of control of the NRC reactor, materials, and export licenses held by GEHA and GNF-A and providing related notice for the CoCs held by GEHA and GNF-A. The applicants stated that the application involves the second phase of a company reorganization in which GE would transfer its various energy-related businesses, including its ownership interest in GEHA and GNF-A, into a recently created wholly owned subsidiary named GE Vernova LLC. Hitachi's ownership interests would not be affected by the proposed transaction. The applicants stated that the reorganization would occur in two steps, each of which would involve an indirect transfer of control of the NRC licenses. First, GE Vernova LLC would become an intermediate holding company and an indirect corporate parent of both GEHA and GNF-A. Second, GE Vernova LLC would be converted into a corporation (i.e., GE Vernova Corp.) and then GE would distribute the shares of GE Vernova Corp. to its shareholders. As a result, GE Vernova Corp. would become the new ultimate U.S. parent company for both GEHA and GNF-A. These two steps are required to effectuate the transaction, and the second step would not occur without the first. The applicants stated that only a single application for both steps was being submitted and requested that the NRC grant its consent to both steps. There would be no direct transfer of control of the NRC licenses involved with the transaction because GEHA and GNF-A would continue to be the holders of the NRC licenses after the proposed transaction. There would also be no change in the management or technical personnel responsible for licensed activities. The current safety, security, and licensing organizations within GEHA and GNF-A would remain unchanged. Additionally, there are no planned changes in the operational organization, location, facilities, equipment, or procedures associated with the NRC licenses, and there would be no changes in operating procedures, emergency procedures, or decommissioning financial assurance. Because the licensees remain the same, there will be no physical transfer of any records concerning the safe and effective decommissioning of the facilities, public dose, and waste disposal, and such records will remain with GEHA and GNF-A. No physical or operational changes affecting the GEHA and GNF-A sites and licensed activities were proposed in the application.

The applicants requested the NRC's consent to the indirect transfers of control pursuant to Section 184 of the Atomic Energy Act of 1954, as amended (the Act), and 10 CFR 50.80, 70.36, 72.50, and 110.50(d). A notice of receipt of the application and opportunity to request a hearing and provide written comments was published in the Federal Register on July 19, 2023 (88 FR 46197). The NRC did not receive any comments or requests for a hearing in response to this notice.

In accordance with 10 CFR 50.80, no license for a production or utilization facility, or any right thereunder, shall be transferred, either voluntarily or involuntarily, directly or indirectly, through transfer of control of the license to any person, unless the Commission gives its consent in writing. In accordance with 10 CFR 70.36, no license granted under the regulations of 10 CFR part 70 and no right to possess or utilize SNM granted by any license issued pursuant to the regulations in 10 CFR part 70 shall be transferred, either voluntarily or involuntarily, directly or indirectly, through transfer of control of any license to any person unless the Commission shall after securing full information, find that the transfer is in accordance with the provisions of the Act, and shall give its consent in writing. In accordance with 10 CFR 72.50, no license or any part included in a license for an ISFSI shall be transferred, either voluntarily or involuntarily, directly or indirectly, through transfer of control of the license to any person, unless the Commission gives its consent in writing. In accordance with 10 CFR 110.50(d), a specific license may be transferred to another person only with the approval of the Commission.

Upon review of the information in the application, as supplemented, and other information before the NRC, and relying on the representations contained in the application, the NRC staff has determined that GE Vernova Corp. is qualified to indirectly hold the NRC licenses, to the extent described in the application, and that the indirect transfers of the licenses are otherwise consistent with applicable provisions of law, regulations, and orders issued by the Commission pursuant thereto. The NRC staff has also determined that: (1) there is reasonable assurance that the health and safety of the public will not be endangered by operation in the proposed manner, (2) there is reasonable assurance that such activities will be conducted in compliance with the Commission's regulations, and (3) the transfers will not be inimical to the common defense and security or to the health and safety of the public. The findings set forth above are supported by an NRC staff safety evaluation dated the same date as this order, which is available at ADAMS Accession No. ML23283A328.

III.

Accordingly, pursuant to Sections 161b, 161i, and 184 of the Act, 42 U.S.C. 2201(b), 2201(i), and 2234; and 10 CFR 50.80, 70.36, 72.50, and 110.50(d), IT IS

HEREBY ORDERED that the license transfer application, as described herein, is approved.

It is further ordered that after receipt of all required regulatory approvals of the proposed transaction, the applicants shall inform the Director of the Office of Nuclear Reactor Regulation and the Director of the Office of Nuclear Material Safety and Safeguards in writing of such receipt at least one (1) business day before all actions necessary to accomplish the indirect transfers of control are completed. Should the proposed indirect transfers not be completed within 1 year of the date of this order, this order shall become null and void, provided, however, that upon timely written application and for good cause shown, such date may be extended by order.

This order is effective upon issuance.

For further details with respect to this order, see the application dated May 30, 2023, as supplemented by letters dated June 20, 2023, June 26, 2023, and September 27, 2023, and the associated NRC staff safety evaluation dated the same date as this order. Publicly available documents created or received at the NRC are accessible electronically through ADAMS in the NRC Library at https://www.nrc.gov/reading-rm/adams.html. Persons who do not have access to ADAMS or who encounter problems in accessing the documents located in ADAMS should contact the NRC Public Document Room (PDR) reference staff by telephone at 1-800-397-4209 or 301-415-4737 or by email to PDR.Resource@nrc.gov.

Dated: November 30, 2023.
For the Nuclear Regulatory Commission.
Robert M. Taylor, Deputy Director,
Office of Nuclear Reactor Regulation for
Andrea D. Veil, Director,
Office of Nuclear Reactor Regulation.
John W. Lubinski, Director,
Office of Nuclear Material Safety and Safeguards.

[FR Doc. 2023-27005 Filed 12-7-23; 8:45 am]

BILLING CODE 7590-01-P